ADVISORY COUNCIL ON HISTORIC PRESERVATION

Notice of Meeting

AGENCY: Advisory Council on Historic Preservation.

ACTION: Notice of meeting.

SUMMARY: Notice is hereby given that the Advisory Council on Historic Preservation will meet on Friday, May 31, 2002. The meeting will be held in Room M-09 at the Old Post Office Building, 1100 Pennsylvania Avenue, NW., Washington, DC, beginning at 8:30 a.m.

The Council was established by the National Historic Preservation Act of 1966 (16 U.S.C. Section 470) to advise the President and the Congress on matters relating to historic preservation and to comment upon Federal, federally assisted, and federally licensed undertakings having an effect upon properties listed in or eligible for inclusion in the National Register of Historic Places. The Council's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Report of the Executive Committee

A. Revision Council Mission Statement

B. Preservation Executive Order

III. Report of the Preservation Initiatives Committee

A. Preserve America Initiative

B. Heritage Tourism Initiatives

C. Preservation Funding Sources

IV. Report of the Federal Agency Programs Committee

A. Federal Program Improvement Priorities and Initiatives

B. Section 106b Cases

V. Report of the Communications, Education, and Outreach Committee

A. Development of the Council Communications Plan

B. Historic Preservation Awards

C. Communications Coordinator

VI. Report of the Historic Preservation and Security Task Force

A. Pennsylvania Avenue Security Improvements

VII. Chairman's Report

VIII. Executive Director's Report

A. Technical Amendments to Section 106 Regulations

B. FY 2003 Appropriations Process

IX. New Business

X. Adjourn

Note: The meetings of the Council are open to the public. If you need special accommodations due to a disability, please contact the Advisory Council on Historic Preservation, 1100 Pennsylvania Ave., NW., Room 809, Washington, DC, 202-606-8503, at least seven (7) days prior to the meeting.

FOR FURTHER INFORMATION CONTACT: Additional information concerning the meeting is available from the Executive Director, Advisory Council on Historic Preservation, 1100 Pennsylvania Ave., NW., #809, Washington, DC 20004.

Dated: May 13, 2002.
Don L. Klima,
Acting Executive Director.

[FR Doc. 02-12345 Filed 5-16-02; 8:45 am]

BILLING CODE 4310-10-M